DEPARTMENT OF THE TREASURY

United States Mint

Public Meeting: Citizens Coinage Advisory Committee

ACTION: Notification of Citizens Coinage Advisory Committee March 5, 2015, Public Meeting.

SUMMARY: Pursuant to United States Code, Title 31, section 5135(b)(8)(C), the United States Mint announces the Citizens Coinage Advisory Committee (CCAC) public meeting scheduled for March 5, 2015. A public forum will occur the following day on March 6, 2015.

Date: March 5, 2015.

Time: 9:30 a.m.-6:45 p.m.

Location: Oregon Convention Center, 777 NE Martin Luther King Jr. Blvd., Room 151, Portland, OR 97232.

Subject: Review and consideration of candidate designs for the 2016 Mark Twain Commemorative Coin Program, the Monuments Men Recognition Act Congressional Gold Medal Program, the Code Talkers Recognition Congressional Gold Medal Program for the Rosebud Tribe, and the Ronald Reagan Presidential $1 Coin. In addition, the CCAC will review and advise on design concepts for the 2017 America the Beautiful Quarters Program Coins, the Nancy Reagan First Spouse Gold Coin and Bronze Medal, and the 2017 Lions Clubs International Century of Service Commemorative Coin Program.

Public Forum: The CCAC will host a public forum on Friday, March 6, 2015, at 9 a.m. in Room 149 to receive input from collectors and other members of the public.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration or addressing the CCAC at the Public Forum is invited to submit them by fax to the following number: 202-756-6525.

Authority: 31 U.S.C. 5135(b)(8)(C).

Dated: February 19, 2015.
Richard A. Peterson,
Deputy Director for Manufacturing and Quality, United States Mint.

[FR Doc. 2015-03799 Filed 2-24-15; 8:45 am]

BILLING CODE P